DEPARTMENT OF TRANSPORTATION

Federal Aviation Administration

14 CFR Parts 91 and 93

[Docket No. FAA-2002-14149; Notice No. 02-21]

RIN 2120-AH92

Special Flight Rules in the Vicinity of Los Angeles International Airport

AGENCY: Federal Aviation Administration (FAA), DOT.

ACTION: Notice of proposed rulemaking (NPRM).

SUMMARY: In this action the FAA proposes to revise and codify Special Federal Aviation Regulation (SFAR) No. 51-1, Special Flight Rules in the Vicinity of the Los Angeles International Airport. This action proposes to change the northern boundary of the Los Angeles Special Flight Rules Area (SFRA), established by SFAR No. 51-1, to align the area with the Los Angeles Class B airspace area revisions adopted in 1997. Also, this action would revise the description of the SFRA airspace to make the requirement to operate at fixed altitudes clearer. The FAA is proposing this action to reduce the potential for climb/descent conflicts, to ensure compatibility with current traffic flows, and to increase overall system efficiency and safety.

DATES: Send your comments to reach us on or before February 14, 2003.

ADDRESSES: Address your comments to the Docket Management System, U.S. Department of Transportation, Room Plaza 401, 400 Seventh Street, SW., Washington, DC 20590-0001. You must identify the docket number at the beginning of your comments, and you should submit two copies of your comments. If you wish to receive confirmation that FAA received your comments, include a self-addressed, stamped postcard.

You may also submit comments through the Internet at http://dms.dot.gov. You may review the public docket containing comments about this proposed regulation in the Dockets Office between 9 a.m. and 5 p.m., Monday through Friday, except Federal holidays. The Dockets Office is on the plaza level of the Nassif Building at the Department of Transportation at the above address. Also, you may review public dockets through the Internet at http://dms.dot.gov.

FOR FURTHER INFORMATION CONTACT: Ken McElroy, Airspace and Rules Division, ATA-400, Office of Air Traffic Airspace Management, Federal Aviation Administration, 800 Independence Avenue SW., Washington, DC 20591; telephone (202) 267-8783.

SUPPLEMENTARY INFORMATION:

Comments Invited

The FAA invites interested persons to participate in this rulemaking by submitting written comments, data, or views. We also invite comments relating to the economic, environmental, energy, or federalism impacts that might result from adopting the proposals in this document. The most helpful comments refer to a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 am and 5 pm, Monday through Friday, except Federal holidays. You may also review the docket using the Internet at the Web address in the ADDRESSES section.

Before acting on this proposal, we will consider all substantive and material comments received on, or before, the closing date for comments. We will consider comments filed late, to the extent practicable. We may change this proposal in light of the comments we receive.

If you want the FAA to acknowledge receipt of your comments on this proposal, include a pre-addressed, stamped postcard on which the docket number appears. We will stamp the date on the postcard and mail it to you.

Availability of Rulemaking Documents

You can get an electronic copy using the Internet by:

(1) Searching the Department of Transportation's electronic Docket Management System (DMS) Web page http://dms.dot.gov/search;

(2) Visiting the Office of Rulemaking's Web page at http://www.faa.gov/avr/armhome.htm; or

(3) Accessing the Government Printing Office's Web page at http://www.access.gpo.gov/su_docs/aces/aces140.html.

You can also get a copy by submitting a request to the Federal Aviation Administration, Office of Rulemaking, ARM-1, 800 Independence Avenue SW., Washington, DC 20591, or by calling (202) 267-9680. Make sure to identify the docket number, notice number, or amendment number of this rulemaking.

Background

The FAA issued SFAR No. 51-1 in February, 1988, to provide Visual Flight Rule (VFR) pilots with a safe and direct north/south route through the Los Angeles (LAX) Terminal Control Area (TCA), now known as the Los Angeles Class B area (53 FR 3812, February 9, 1988). Specifically, SFAR No. 51-1 allows certain aircraft operating under VFR to fly through the Special Flight Rules Area (SFRA) without contacting air traffic control personnel provided that specific conditions are met. The conditions include equipment, use of lights, maximum indicated airspeed and operations at fixed altitudes.

In 1993, the FAA reclassified airspace terminology and replaced the term TCA with Class B Airspace Area (56 FR 242, December 17, 1991). In 1997, the FAA modified the Los Angeles B airspace area, but did not re-describe the SFAR No. 51-1 airspace in conjunction with the changes (61 FR 66902, December 19, 1996).

Discussion of the Proposal

The FAA proposes to add subpart G to part 93 of title 14 of the Code of Federal Regulations to revise, and codify, the airspace designated as the Los Angeles (LAX) SFRA and the special flight procedures for that area. Codifying these special flight rules in subpart G of part 93 of title 14 of the Code of Federal Regulations requires an amendment to remove SFAR No. 51-1. The FAA proposes to remove SFAR No. 51-1 from part 91 of title 14 of the Code of Federal Regulations to accomplish that end.

Also, the FAA proposes to change the northern boundary of the LAX SFRA to align it with the 1997 Class B revisions as discussed above. Further, the FAA proposes to revise the language in the current SFAR No. 51-1 by removing the words “inclusive” and “between” from the airspace description in section 1 of the SFAR.

Section 2 of SFAR No. 51-1 now requires certain aircraft to operate at fixed altitudes in the LAX SFRA. The FAA's 2001 biennial study of LAX Class B operations concluded that the regulatory description of the special flight rules area could be misunderstood by pilots to imply that they could climb or descend while in the area because it uses the words “inclusive” and “between” when describing the boundaries of the LAX SFRA. That was not the intent of the SFAR. This proposal would remove “inclusive” and “between” from the airspace description to make the requirement to operate at fixed altitudes clearer.

Paperwork Reduction Act

The Paperwork Reduction Act of 1995 (44 U.S.C. 3507(d)) requires that the FAA consider the impact of paperwork and other information collection burdens imposed on the public. The FAA has determined that there are no current new information collection requirements associated with this proposed rule.

International Compatibility

In keeping with U.S. obligations under the Convention on International Civil Aviation, it is FAA policy to comply with International Civil Aviation Organization (ICAO) Standards and Recommended Practices to the maximum extent practicable. The FAA has determined that there are no ICAO Standards and Recommended Practices that correspond to these proposed regulations.

Executive Order 12866 and DOT Regulatory Policies and Procedures

Executive Order 12866, Regulatory Planning and Review, directs the FAA to assess both the costs and benefits of a regulatory change. We are not allowed to propose or adopt a regulation unless we make a reasoned determination that the benefits of the intended regulation justify the costs. Our assessment of this rulemaking indicates that its economic impact is minimal. Because the costs and benefits of this action do not make it a “significant regulatory action” as defined in the Order, we have not prepared a “regulatory evaluation,” which is the written cost/benefit analysis ordinarily required for all rulemaking under the DOT Regulatory Policies and Procedures. We do not need to do a full evaluation where the economic impact of a rule is minimal.

Economic Evaluation

Proposed changes to Federal regulations must undergo several economic analyses. First, Executive Order 12866, Regulatory Planning and Review, directs that each Federal agency propose or adopt a regulation only upon a reasoned determination that the benefits of the intended regulation justify its costs. Second, the Regulatory Flexibility Act of 1980 requires agencies to analyze the economic impact of regulatory changes on small entities. Third, the Trade Agreements Act (19 U.S.C. 2531-2533) prohibits agencies from setting standards that create unnecessary obstacles to the foreign commerce of the United States. In developing U.S. standards, this Trade Act also requires agencies to consider international standards and, where appropriate, use them as the basis of U.S. standards. Fourth, the Unfunded Mandates Reform Act of 1995 (Public Law 104-4) requires agencies to prepare a written assessment of the costs, benefits, and other effects of proposed or final rules that include a Federal mandate likely to result in the expenditure by State, local, or tribal governments, in the aggregate, or by private sector, of $100 million or more annually (adjusted for inflation).

For regulations with an expected minimal impact, the above-specified analyses are not required. The Department of Transportation Order DOT 2100.5 prescribes policies and procedures for simplification, analysis, and review of regulations. If it is determined that the expected impact is so minimal that the regulation does not warrant a full evaluation, a statement to that effect and the basis for it is included in proposed regulation.

This NPRM would codify current flight restrictions for aircraft operating under VFR in the vicinity of Los Angeles International Airport, California. This action also proposes to revise the boundary of the LAX SFRA to align with Los Angeles Class B airspace area revisions adopted in 1997, and revise the description of airspace area to clarify the fixed altitudes for aircraft operating in the SFRA and reduce the potential climb/descent conflicts.

The FAA has determined that the proposed rule would result in no incremental costs to persons operating under VFR in the LAX Class B airspace area. This assessment is based on the fact that this NPRM revises and codifies existing special flight rules. These rules are already applicable to flight operations in the LAX Area. The proposed rule would align the LAX SFRA boundaries with the LAX Class B airspace area and would insure that climb/descent conflicts are eliminated in the SFRA. Therefore, the FAA has determined that this proposed rule would be cost-beneficial.

Initial Regulatory Flexibility Determination

The Regulatory Flexibility Act of 1980 (RFA) establishes “as a principle of regulatory issuance that agencies shall endeavor, consistent with the objective of the rule and of applicable statutes, to fit regulatory and informational requirements to the scale of the business, organizations, and governmental jurisdictions subject to regulation.” To achieve that principle, the Act requires agencies to solicit and consider flexible regulatory proposals and to explain the rationale for their actions. The Act covers a wide range of small entities, including small businesses, not-for-profit organizations and small governmental jurisdictions.

Agencies must perform a review to determine whether a proposed or final rule will have a significant economic impact on a substantial number of small entities. If the determination is that it will, the agency must prepare a regulatory flexibility analysis as described in the Act.

If an agency determines that a proposed or final rule is not expected to have a significant economic impact on a substantial number of small entities, section 605(b) of the 1980 act provides that the head of the agency may so certify and a regulatory flexibility analysis is not required. The certification must include a statement providing the factual basis for this determination, and the reasoning should be clear.

In view of the no cost impact of the rule, the FAA has determined that this proposed rule would not have a significant economic impact on a substantial number of small entities. Consequently, the FAA certifies that the rule would not have a significant economic impact on a substantial number of small entities. The FAA solicits comments concerning this finding.

International Trade Impact Analysis

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards.

In accordance with the above statute, the FAA has assessed the potential effect of this proposed rule and has determined that it would have only a domestic impact and therefore create no obstacles to the foreign commerce of the United States.

Unfunded Mandates Reform Act

The Unfunded Mandates Reform Act of 1995 (the Act), enacted as Public Law 104-4 on March 22, 1995, is intended, among other things, to curb the practice of imposing unfunded Federal mandates on State, local, and tribal governments. Title II of the Act requires each Federal agency to prepare a written statement assessing the effects of any Federal mandate in a proposed or final agency rule that may result in a $100 million or more expenditure (adjusted annually for inflation) in any one year by State, local, and tribal governments, in the aggregate, or by the private sector; such a mandate is deemed to be a “significant regulatory action.”

This proposed rule does not contain such a mandate. Therefore, the requirements of Title II of the Act do not apply.

Executive Order 13132, Federalism

The FAA has analyzed this NPRM under the principles and criteria of Executive Order 13132, Federalism. We have determined that this action will not have a substantial direct effect on the States, or the relationship between the national Government and the States, or on the distribution of power and responsibilities among the various levels of government. Therefore, we have determined that this final rule does not have federalism implications.

Environmental Analysis

FAA Order 1050.1 defines FAA actions that may be categorically excluded from preparation of a National Environmental Policy Act (NEPA) environmental impact statement. In accordance with FAA Order 1050.1, this rulemaking action qualifies for a categorical exclusion.

Energy Impact

We have assessed the energy impact of this NPRM in accord with the Energy Policy and Conservation Act (EPCA), Public Law 94-163, as amended (42 U.S.C. 6362), and FAA Order 1053.1. We have determined that this NPRM is not a major regulatory action under the provisions of the EPCA.

List of Subjects

14 CFR Part 91

Afghanistan, Agriculture, Air traffic control, Aircraft, Airmen, Airports, Aviation safety, Canada, Cuba, Ethiopia, Freight, Mexico, Noise control, Political candidates, Reporting and recordkeeping requirements, Yugoslavia.

14 CFR Part 93

Air traffic control, Airspace, Alaska, Navigation (air), Puerto Rico.

The Proposed Amendment

In consideration of the foregoing, the Federal Aviation Administration proposes to amend parts 91 and 93 of title 14 of the Code of Federal Regulations as follows:

PART 91—GENERAL OPERATING AND FLIGHT RULES

1.The authority citation for part 91 continues to read as follows:

Authority: 49 U.S.C. 106(g), 1155, 40103, 40113, 40120, 44101, 44111, 44701, 44709, 44711, 44712, 44715, 44716, 44717, 44722, 46306, 46315, 46316, 46504, 46506-46507, 47122, 47508, 47528-47531, articles 12 and 29 of the Convention on International Civil Aviation (61 stat. 1180).

Special Federal Aviation Regulation No. 51-1

2. Remove SFAR No. 51-1.

PART 93—SPECIAL AIR TRAFFIC RULES AND AIRPORT TRAFFIC PATTERNS

3. The authority citation for part 93 continues to read as follows:

Authority: 49 U.S.C. 106(g), 40103, 40106, 40109, 40113, 44502, 44514, 44701, 44719, 46301.

4. Add subpart G to part 93 to read as follows:

Subpart G—Special Flight Rules in the Vicinity of Los Angeles International Airport

Sec.
93.91 Applicability.
93.93 Description of area.
93.95 General operating procedures.
93.97 Operations in the SFRA.

§ 93.91 Applicability.

This subpart prescribes special air traffic rules for aircraft conducting VFR operations in the vicinity of Los Angeles International Airport, California.

§ 93.93 Description of area.

The Los Angeles Special Flight Rules Area is designated as that part of Area A of the Los Angeles Class B airspace area at 3,500 feet above mean sea level (MSL) and at 4,500 feet MSL, beginning at Ballona Creek/Pacific Ocean (lat. 33°57′42″ N, long. 118°27′23″ W), then eastbound along Manchester Blvd. to the intersection of Manchester/405 Freeway (lat. 33°57′42″ N, long.118°22′10″ W), then southbound along the 405 Freeway to the intersection of the 405 Freeway/Imperial Highway (lat. 33°55′51″ N, long 118° 22'06'W), then westbound along Imperial Highway to the intersection of Imperial Highway/Pacific Ocean (lat. 33°55′51″ N, long. 118°26′05″ W), then northbound along the shoreline to the point of beginning.

§ 93.95 General operating procedures.

Unless otherwise authorized by the Administrator, no person may operate an aircraft in the airspace described in § 93.93 unless the operation is conducted in accordance with the following procedures:

(a) The flight must be conducted under VFR and only when operation may be conducted in compliance with § 91.155(a) of this chapter.

(b) The aircraft must be equipped as specified in § 91.215(b) of this chapter replying on code 1201 prior to entering and while operating in this area.

(c) The pilot shall have a current Los Angeles Terminal Area Chart in the aircraft.

(d) The pilot shall operate on the Santa Monica very high frequency omni-directional radio range (VOR) 132° radial.

(e) Operations in a southeasterly direction shall be in level flight at 3,500 feet MSL.

(f) Operations in a northwesterly direction shall be in level flight at 4,500 feet MSL.

(g) Indicated airspeed shall not exceed 140 knots.

(h) Anti-collision lights and aircraft position/navigation lights shall be on. Use of landing lights is recommended.

(i) Turbojet aircraft are prohibited from VFR operations in this area.

§ 93.97 Operations in the SFRA.

Notwithstanding the provisions of § 91.131(a) of this chapter, an air traffic control authorization is not required in the Los Angeles Special Flight Rules Area for operations in compliance with § 93.95. All other provisions of § 91.131 of this chapter apply to operations in the Los Angeles Special Flight Rules Area.

Issued in Washington, DC, on December 23, 2002.
Nancy B. Kalinowski,
Acting Program Director, Air Traffic Airspace Management.

[FR Doc. 02-32939 Filed 12-30-02; 8:45 am]

BILLING CODE 4910-13-P